NUCLEAR REGULATORY COMMISSION

[Docket No. 72-17]

Portland General Electric Company; Trojan Nuclear Plant; Trojan Independent Spent Fuel Storage Installation; Notice of Issuance of Amendment to Materials License SNM-2509

The U.S. Nuclear Regulatory Commission (NRC or the Commission) has issued Amendment 1 to Materials License No. SNM-2509 held by Portland General Electric Company (PGE) for the receipt, possession, storage, and transfer of spent fuel at the Trojan Nuclear Plant independent spent fuel storage installation (ISFSI), located in Columbia County, Oregon. The amendment is effective as of the date of issuance.

By letter dated February 19, 2001, as supplemented by letter dated March 9, 2001, PGE submitted an application to the NRC in accordance with 10 CFR part 72 requesting an amendment of the Trojan ISFSI license (SNM-2509). PGE sought Commission approval to revise the Trojan ISFSI Technical Specifications (Appendix A to the license) to conform to a change in the Code of Federal Regulations (10 CFR 72.48) which will become effective on April 5, 2001, and to make editorial corrections.

This amendment complies with the standards and requirements of the Atomic Energy Act of 1954, as amended (the Act), and the Commission's rules and regulations. The Commission has made appropriate findings as required by the Act and the Commission's rules and regulations in 10 CFR Chapter I, which are set forth in the license amendment.

In accordance with 10 CFR 72.46(b)(2), a determination has been made that the amendment does not present a genuine issue as to whether public health and safety will be significantly affected. Therefore, the publication of a notice of proposed action and an opportunity for hearing or a notice of hearing is not warranted. Notice is hereby given of the right of interested persons to request a hearing on whether the action should be rescinded or modified.

The Commission has determined that, pursuant to 10 CFR 51.22(c)(11), neither an environmental assessment nor an environmental impact statement is warranted for this action.

Documents related to this action are available for public inspection at the Commission's Public Document Room, One White Flint North Building, 11555 Rockville Pike, Rockville, MD, or from the publicly available records component of NRC's Agencywide Documents Access and Management System (ADAMS). ADAMS is accessible from the NRC Web Site at http://www.nrc.gov/NRC/ADAMS/index.html (the Public Electronic Reading Room).

Dated at Rockville, Maryland, this 31st day of March 2001.
For the Nuclear Regulatory Commission.
E. William Brach,
Director, Spent Fuel Project Office, Office of Nuclear Material Safety and Safeguards.

[FR Doc. 01-8893 Filed 4-10-01; 8:45 am]

BILLING CODE 7590-01-P